DEPARTMENT OF THE TREASURY

Submission for OMB Review; Comment Request

February 16, 2012.

The Department of the Treasury will submit the following information collection request to the Office of Management and Budget (OMB) for review and clearance in accordance with the Paperwork Reduction Act of 1995, Public Law 104-13, on or after the date of publication of this notice.

DATES: Comments should be received on or before March 26, 2012 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request may be found at www.reginfo.gov.

Internal Revenue Service (IRS)

OMB Number: 1545-1467.

Type of Review: Extension without change of a currently approved collection.

Title: Electronic Federal Tax Payment System (EFTPS).

Forms: 9779, 9779(SP), 9783, 9783(SP), 9787, 9787(SP), 9789, 9789(SP).

Abstract: Enrollment is vital to the implementation of the Electronic Federal Tax Payment System (EFTPS). EFTPS is an electronic remittance processing system that the Service will use to accept electronically transmitted federal tax payments. This system is a necessary outgrowth of advanced information and communication technologies.

Affected Public: Private Sector: Businesses or other for-profits.

Estimated Total Burden Hours: 766,446.

OMB Number: 1545-1505.

Type of Review: Revision of a currently approved collection.

Title: Orphan Drug Credit.

Form: 8820.

Abstract: Filers use this form to elect to claim the orphan drug credit, which is 50% of the qualified clinical testing expenses paid or incurred with respect to low or unprofitable drugs for rare diseases and conditions, as designated under section 526 of the Federal Food, Drug, and Cosmetic Act.

Affected Public: Private Sector: Businesses or other for-profits.

Estimated Total Burden Hours: 348.

OMB Number: 1545-2117.

Type of Review: Extension without change of a currently approved collection.

Title: TD 9549 (Final)—Implementation of Form 990.

Abstract: The regulations revise the requirements for requesting a schedule of ruling amounts based on a formula or method.

Affected Public: Private Sector: Not-for-profit institutions.

Estimated Total Burden Hours: 1.

OMB Number: 1545-2209.

Type of Review: Extension without change of a currently approved collection.

Title: REG-112805-10—Branded Prescription Drugs.

Abstract: Section 9008 of the Patient Protection and Affordable Care Act (ACA), Public Law 111-148 (124 Stat. 119 (2010)), as amended by section 1404 of the Health Care and Education Reconciliation Act of 2010 (HCERA), Public Law 111-152 (124 Stat. 1029 (2010)) imposes an annual fee on manufacturers and importers of branded prescription drugs that have gross receipts of over $5 million from the sales of these drugs to certain government programs (covered entity/covered entities). The temporary regulations describe how the IRS will administer the branded prescription drug fee. Section 51.7T(b) of the temporary regulations provides that the IRS will send each covered entity notification of its preliminary fee calculation by May 15 of the fee year. If a covered entity chooses to dispute the IRS' preliminary fee calculation, the covered entity must follow the procedures for submitting an error report that are established in § 51.8T.

Affected Public: Private Sector: Businesses or other for-profits.

Estimated Total Burden Hours: 1,800.

OMB Number: 1545-2216.

Type of Review: Extension without change of a currently approved collection.

Title: NOT-131190-11, Alabama Low-Income Housing Credit disaster Relief.

Abstract: The Internal Revenue Service is suspending certain requirements under § 42 of the Internal Revenue Code for low-income housing credit projects in Alabama to provide emergency housing relief needed as a result of the devastation caused by severe storms, tornadoes, straight-line winds, and flooding in Alabama.

Affected Public: Individuals or Households.

Estimated Total Burden Hours: 150.

Dawn D. Wolfgang,
Treasury PRA Clearance Officer.

[FR Doc. 2012-4121 Filed 2-22-12; 8:45 am]

BILLING CODE 4830-01-P